SURFACE TRANSPORTATION BOARD

[Docket No. EP 552 (Sub-No. 21)]

Railroad Revenue Adequacy—2016 Determination

AGENCY: Surface Transportation Board.

ACTION: Notice of decision.

SUMMARY: On September 6, 2017, the Board served a decision announcing the 2016 revenue adequacy determinations for the Nation's Class I railroads. Four carriers (BNSF Railway Company, Norfolk Southern Combined Railroad Subsidiaries, Soo Line Corporation, and Union Pacific Railroad Company) were found to be revenue adequate.

DATES: Effective Date: This decision is effective on September 6, 2017.

FOR FURTHER INFORMATION CONTACT: Pedro Ramirez, (202) 245-0333. Assistance for the hearing impaired is available through the Federal Information Relay Service (FIRS) at (800) 877-8339.

SUPPLEMENTARY INFORMATION: The Board is required to make an annual determination of railroad revenue adequacy. A railroad is considered revenue adequate under 49 U.S.C. 10704(a) if it achieves a rate of return on net investment (ROI) equal to at least the current cost of capital for the railroad industry for 2016, determined to be 8.88% in Railroad Cost of Capital—2016, EP 558 (Sub-No. 20) (STB served Aug. 7, 2017). This revenue adequacy standard was applied to each Class I railroad. Four carriers (BNSF Railway Company, Norfolk Southern Combined Railroad Subsidiaries, Soo Line Corporation, and Union Pacific Railroad Company) were found to be revenue adequate for 2016.

The decision in this proceeding is posted on the Board's Web site at www.stb.gov. Copies of the decision may be purchased by contacting the Office of Public Assistance, Governmental Affairs, and Compliance at (202) 245-0238.

Decided: September 5, 2017.
By the Board, Board Members Begeman, Elliott, and Miller.
Jeffrey Herzig,
Clearance Clerk.

[FR Doc. 2017-19100 Filed 9-8-17; 8:45 am]

BILLING CODE 4915-01-P